DEPARTMENT OF TRANSPORTATION

Federal Aviation Administration

Notice of Intent To Rule on Transfer of Airport and Requests To Release Airport Property at the North Bend Municipal Airport, North Bend, OR

AGENCY: Federal Aviation Administration (FAA), DOT.

ACTION: Notice of transfer of airport and request to release airport property.

SUMMARY: The FAA proposes to rule and invite public comment on the transfer of the airport and release of land at North Bend Municipal Airport under the provisions of 49 U.S.C. 47107(h).

DATES: Comments must be received on or before August 26, 2004.

ADDRESSES: Comments on this application may be mailed or delivered, by appointment, to the FAA at the following address: Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to Mr. Gary LeTellier, Airport Manager, Coos County Airport District at 2348 Colorado Avenue, North Bend, Oregon 97459-2079.

FOR FURTHER INFORMATION CONTACT: Mr. Dave Roberts, Project Manager, Federal Aviation Administration, Northwest Mountain Region, Airports Division, Seattle Airports District Office, 1601 Lind Avenue, SW., Suite 250, Renton, Washington 98055-4056.

The request to transfer the airport and release property may be reviewed in person at this same location.

SUPPLEMENTARY INFORMATION: The FAA invites public comment on the request to transfer the Airport and release property at the North Bend Municipal Airport under the provisions of 49 USC 47107(h).

On July 2, 2004, the FAA determined that the request to transfer the Airport and release property at North Bend Municipal Airport submitted by the City of North Bend and the Coos County Airport District met the procedural requirements of the Federal Aviation Airport Compliance Requirements Order 5190.6A. The FAA may approve the request, in whole or in part, no later than November 30, 2004.

The following is a brief overview of the request: The City of North Bend Oregon plans to transfer all assets and liabilities associated with the North Bend Municipal Airport, including surplus government land and AIP Grant obligations, to the Coos County Airport District. After the transfer, the Coos County Airport District will sell 6.92 acres of airport land to the City of North Bend. The City's sewage treatment plant is currently located on this parcel. The land is non-aeronautical property and will be sold at fair market value with proceeds used for airport capital improvement projects.

Any person may inspect the request in person, by appointment, at the FAA office listed above.

FOR FURTHER INFORMATION CONTACT: Mr. Dave Roberts, Project Manager, Federal Aviation Administration, Northwest Mountain Region, Airports Division, Seattle Airports District Office, 1601 Lind Avenue, SW., Suite 250, Renton, Washington 98055-4056.

In addition, any person may, upon request, inspect the application, notice and other documents germane to the application in person at North Bend Municipal Airport, 2348 Colorado Ave., North Bend, OR 97459-2079.

Issued in Renton, Washington on July 19, 2004.
J. Wade Bryant,
Manager, Seattle Airports District Office.

[FR Doc. 04-17018 Filed 7-26-04; 8:45 am]

BILLING CODE 4910-13-M